DEPARTMENT OF THE TREASURY

Office of Foreign Assets Control

31 CFR Parts 501, 510, 535, 536, 539, 541, 542, 544, 546, 547, 548, 549, 551, 552, 553, 560, 561, 566, 570, 576, 578, 583, 584, 588, 589, 590, 592, 594, 597, and 598

Inflation Adjustment of Civil Monetary Penalties

Correction

In rule document 2023-00593 beginning on page 2229 in the issue of Friday, January 13, 2023, make the following correction:

Appendix A to Part 501 [Corrected]

On page 2231, in Appendix A to Part 501, in the third column, in the 16th line, “v” should read “vi”.

[FR Doc. C1-2023-00593 Filed 4-14-23; 8:45 am]

BILLING CODE 0099-10-D